DEPARTMENT OF DEFENSE

Office of the Secretary

[Docket ID: DoD-2024-OS-0022]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Counterintelligence and Security Agency, Operational Policy and Procedures Group, ATTN: Thomas A. Giancoli, 1901 S Bell Street, 5th Floor, Arlington, VA 22202, 703-582-6108.

SUPPLEMENTARY INFORMATION:

Title; Associated Form; and OMB Number: Federal Background Investigation and Personnel Vetting Investigative Request Forms; INV Forms 40-44; OMB Control Number 0705-0003.

Needs and Uses: The INV 40, 41, 42, 43, and 44 are used to collect information from a multitude of record sources to support federal background investigation and personnel vetting processes such as: investigations and determinations of eligibility for access to classified national security information, and for access to special access programs; suitability for federal employment; fitness of contractor personnel to perform work for or on behalf of the U.S. Government. The INV 40 is used to collect records from a Federal or State record repository or a credit bureau. The INV 44 is used to collect law enforcement data from a criminal justice agency. The INV 41, 42, and 43 are sent to employment references, associates, and educational institutions. The INV 40, 41, 43, and 44 contain the individual's full name, date of birth (DOB), and full Social Security Number (SSN). The INV 42 (Personal Information) does not include the subject's SSN or DOB.

Affected Public: Individuals or households.

Annual Burden Hours: 237,506.

Number of Respondents: 2,850,071.

Responses per Respondent: 1.

Annual Responses: 2,850,071.

Average Burden per Response: 5 minutes.

Frequency: On occasion.

Dated: March 12, 2024.
Aaron T. Siegel,
Alternate OSD Federal Register Liaison Officer, Department of Defense.

[FR Doc. 2024-05690 Filed 3-15-24; 8:45 am]

BILLING CODE 6001-FR-P